FEDERAL MARITIME COMMISSION

Sunshine Act Meeting

TIME AND DATE: May 19, 2021; 10 a.m.

PLACE: This meeting will be held by video-conference only.

STATUS: This meeting will be open to the public.

MATTERS TO BE CONSIDERED:

1. National Shipper Advisory Committee and Federal Advisory Committee Act Implementation.

2. Staff Briefing on Options to Update and Publish Commission Organizational Information and Delegations of Authority.

CONTACT PERSON FOR MORE INFORMATION: Rachel Dickon, Secretary, (202) 523-5725.

Rachel Dickon,
Secretary.

[FR Doc. 2021-10451 Filed 5-13-21; 4:15 pm]

BILLING CODE 6730-02-P